DEPARTMENT OF JUSTICE

Antitrust Division

Notice Pursuant to the National Cooperative Research and Production Act of 1993—International Electrotechnical Commission Technical Committee Subcommittee 22G

Notice is hereby given that, on September 17, 2004, pursuant to section 6(a) of the National Cooperative Research and Production Act of 1993, 15 U.S.C. 4301 et seq. (“the Act”), International Electrotechnical Commission Technical Committee Subcommittee 22G (“IEC TC SC 22G”), by its Secretariat, National Electrical Manufacturers Association (“NEMA”), has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: International Electrotechnical Commission Technical Committee Subcommittee 22G, Rosslyn, VA. The nature and scope of IEC TC SC 22G's standards development activities are: related to electronic power conversion equipment for adjustable speed drives. IEC TC SC 22G currently maintains a series of IEC 61800 standards dealing with general requirements for this equipment including ratings, electromagnetic compatibility, and safety. The standards developed by IEC TC SC 22G are published by NEMA.

Dorothy B. Fountain,
Deputy Director of Operations Antitrust Division.

[FR Doc. 05-137 Filed 1-4-05; 8:45 am]

BILLING CODE 4410-11-M